DEPARTMENT OF THE INTERIOR

National Park Service

[NPS-WASO-NAGPRA-17071; PPWOCRADN0-PCU00RP14.R50000]

Notice of Inventory Completion: U.S. Department of Agriculture, Forest Service, Cherokee National Forest, Cleveland, TN

AGENCY: National Park Service, Interior.

ACTION: Notice.

SUMMARY: The U.S. Department of Agriculture (USDA), Forest Service, Cherokee National Forest, has completed an inventory of human remains, in consultation with the appropriate Indian tribes or Native Hawaiian organizations, and has determined that there is a cultural affiliation between the human remains and present-day Indian tribes or Native Hawaiian organizations. Lineal descendants or representatives of any Indian tribe or Native Hawaiian organization not identified in this notice that wish to request transfer of control of these human remains should submit a written request to the USDA Forest Service, Cherokee National Forest. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to the USDA Forest Service, Cherokee National Forest at the address in this notice by December 17, 2014.

ADDRESSES: Mr. JaSal Morris, Forest Supervisor, Supervisor's Office, USDA Forest Service, Cherokee National Forest, 2800 Ocoee Street N., Cleveland, TN 37312, telephone (423) 476-9700.

SUPPLEMENTARY INFORMATION: Notice is here given in accordance with the Native American Graves Protection and Repatriation Act (NAGPRA), 25 U.S.C. 3003, of the completion of an inventory of human remains under the control of the USDA Forest Service, Cherokee National Forest, Cleveland, TN. The human remains were removed from the Jackson Farm site (40WG17), also known as the Plum Grove site, in Washington County, TN.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the USDA Forest Service, Cherokee National Forest professional staff in consultation with representatives of the Cherokee Nation, the Eastern Band of Cherokee Indians, and the United Keetoowah Band of Cherokee Indians in Oklahoma.

History and Description of the Remains

In 1977 and 1978, human remains representing, at minimum, eight individuals were removed from 20 burial units at the Jackson Farm site (40Wg17) in Washington County, TN, by the Forest Service archeologist Dr. Howard Earnest. The burials were extensively disturbed through massive sheet erosion of the site from flooding of the Nolichucky River in the fall of 1977. The human remains removed by Dr. Earnest have been curated by Western Carolina University since excavation. No known individuals were identified. No associated funerary objects are present. Unassociated funerary objects were removed by Dr. Earnest and are a part of a separate Notice of Intent to Repatriate.

In 1986, human remains representing, at minimum, two individuals were removed from three burial units at the Jackson Farm site (40Wg17) in Washington County, TN, by Dr. Cliff Boyd of Radford University. The human remains were disturbed by excavation performed by the Washington County, TN, Highway Department. The human remains removed by Dr. Boyd have been curated by Western Carolina University since excavation. No known individuals were identified. No associated funerary objects are present.

Based on the location of the Jackson Farm site, it is reasonable to assume a relationship of shared group identity between these human remains and the Cherokee people, currently represented by the Cherokee Nation; the Eastern Band of Cherokee Indians, and the United Keetoowah Band of Cherokee Indians in Oklahoma.

Determinations Made by the USDA Forest Service Cherokee National Forest

Officials of the USDA Forest Service, Cherokee National Forest have determined that:

• Pursuant to 25 U.S.C. 3001(9), the human remains described in this notice represent the physical remains of 10 individuals of Native American ancestry.

• Pursuant to 25 U.S.C. 3001(2), there is a relationship of shared group identity that can be reasonably traced between the Native American human remains and the Cherokee Nation, the Eastern Band of Cherokee Indians, and the United Keetoowah Band of Cherokee Indians in Oklahoma.

Additional Requestors and Disposition

Lineal descendants or representatives of any Indian tribe or Native Hawaiian organization not identified in this notice that wish to request transfer of control of these human remains should submit a written request with information in support of the request to Mr. JaSal Morris, Forest Supervisor, Supervisor's Office, USDA Forest Service, Cherokee National Forest, 2800 Ocoee Street N., Cleveland, TN 37312, telephone (423) 476-9700, by December 17, 2014. After that date, if no additional requestors have come forward, transfer of control of the human remains to the Cherokee Nation, the Eastern Band of Cherokee Indians, and the United Keetoowah Band of Cherokee Indians in Oklahoma may proceed.

The USDA Forest Service, Cherokee National Forest is responsible for notifying the Cherokee Nation, the Eastern Band of Cherokee Indians, and the United Keetoowah Band of Cherokee Indians in Oklahoma that this notice has been published.

Dated: October 29, 2014.
Melanie O'Brien,
Acting Manager, National NAGPRA Program.

[FR Doc. 2014-27145 Filed 11-14-14; 8:45 am]

BILLING CODE 4312-50-P